DEPARTMENT OF COMMERCE

International Trade Administration

[A-570-908]

Notice of Antidumping Duty Order: Sodium Hexametaphosphate From the People's Republic of China

AGENCY: Import Administration, International Trade Administration, Department of Commerce.

SUMMARY: Based on affirmative final determinations by the Department of Commerce (the “Department”) and the International Trade Commission (“ITC”), the Department is issuing an antidumping duty order on sodium hexametaphosphate (“SHMP”) from the People's Republic of China (“PRC”). On March 12, 2008, the ITC notified the Department of its affirmative determination of material injury to a U.S. industry. See Sodium Hexametaphosphate from China (Investigation No. 731-TA-1110 (Final), USITC Publication 3984, March 2008).

EFFECTIVE DATE: March 19, 2008.

FOR FURTHER INFORMATION CONTACT: Erin Begnal or Scot Fullerton, AD/CVD Operations, Office 9, Import Administration, International Trade Administration, U.S. Department of Commerce, 14th Street and Constitution Avenue NW, Washington, DC 20230; telephone: (202) 482-1442, or (202) 482-1386, respectively.

SUPPLEMENTARY INFORMATION:

Background

In accordance with sections 735(d) and 777(i)(1) of the Tariff Act of 1930, as amended (the “Act”), on February 4, 2008, the Department published the Final Determination of Sales at Less Than Fair Value: Sodium Hexametaphosphate From the People's Republic of China, 73 FR 6479 (February 4, 2008) (“Final Determination”).

Scope of Order

The merchandise subject to this investigation is sodium hexametaphosphate (“SHMP”). SHMP is a water-soluble polyphosphate glass that consists of a distribution of polyphosphate chain lengths. It is a collection of sodium polyphosphate polymers built on repeating NaPO3 units. SHMP has a P2O5 content from 60 to 71 percent. Alternate names for SHMP include the following: Calgon; Calgon S; Glassy Sodium Phosphate; Sodium Polyphosphate, Glassy; Metaphosphoric Acid; Sodium Salt; Sodium Acid Metaphosphate; Graham's Salt; Sodium Hex; Polyphosphoric Acid, Sodium Salt; Glass H; Hexaphos; Sodaphos; Vitrafos; and BAC-N-FOS. SHMP is typically sold as a white powder or granule (crushed) and may also be sold in the form of sheets (glass) or as a liquid solution. It is imported under heading 2835.39.5000, HTSUS. It may also be imported as a blend or mixture under heading 3824.90.3900, HTSUS. The American Chemical Society, Chemical Abstract Service (“CAS”) has assigned the name “Polyphosphoric Acid, Sodium Salt” to SHMP. The CAS registry number is 68915-31-1. However, SHMP is commonly identified by CAS No. 10124-56-8 in the market. For purposes of the investigation, the narrative description is dispositive, not the tariff heading, CAS registry number or CAS name.

The product covered by this investigation includes SHMP in all grades, whether food grade or technical grade. The product covered by this investigation includes SHMP without regard to chain length i.e., whether regular or long chain. The product covered by this investigation includes SHMP without regard to physical form, whether glass, sheet, crushed, granule, powder, fines, or other form, and whether or not in solution.

However, the product covered by this investigation does not include SHMP when imported in a blend with other materials in which the SHMP accounts for less than 50 percent by volume of the finished product.

Antidumping Duty Order

On March 12, 2008, in accordance with section 735(d) of the Act, the ITC notified the Department of its final determination, pursuant to section 735(b)(1)(A)(i) of the Act, that an industry in the United States is materially injured by reason of less-than-fair-value imports of subject merchandise from the PRC. Therefore, in accordance with section 736(a)(1) of the Act, the Department will direct U.S. Customs and Border Protection (“CBP”) to assess, upon further instruction by the Department, antidumping duties equal to the amount by which the normal value of the merchandise exceeds the export price (or constructed export price) of the merchandise for all relevant entries of SHMP from the PRC. These antidumping duties will be assessed on all unliquidated entries of SHMP from the PRC entered, or withdrawn from the warehouse, for consumption on or after September 14, 2007, the date on which the Department published its preliminary determination. See Preliminary Determination of Sales at Less Than Fair Value: Sodium Hexametaphosphate from the People's Republic of China, 72 FR 52544 (September 14, 2007) (“Preliminary Determination”).

Section 733(d) of the Act states that instructions issued pursuant to an affirmative preliminary determination may not remain in effect for more than four months except where exporters representing a significant proportion of exports of the subject merchandise request the Department to extend that four-month period to no more than six months. At the request of exporters that account for a significant proportion of SHMP, we extended the four-month period to no more than six months. See Postponement of Final Determination of Antidumping Duty Investigation: Sodium Hexametaphosphate from the People's Republic of China, 72 FR 55176 (September 28, 2007); see also Postponement of Final Determination of Antidumping Duty Investigation: Sodium Hexametaphosphate From the People's Republic of China, 73 FR 5176 (January 29, 2008). In this investigation, the six-month period beginning on the date of the publication of the preliminary determination ends on March 11, 2008. Furthermore, section 737 of the Act states that definitive duties are to begin on the date of publication of the ITC's final injury determination. Therefore, in accordance with section 733(d) of the Act and our practice, we will instruct CBP to terminate the suspension of liquidation and to liquidate, without regard to antidumping duties, unliquidated entries of SHMP from the PRC entered, or withdrawn from warehouse, for consumption on or after March 11, 2008, and before the date of publication of the ITC's final injury determination in the Federal Register. Suspension of liquidation will continue on or after this date.

Effective on the date of publication of the ITC's final affirmative injury determination, CBP, pursuant to section 735(c)(3) of the Act, will require, at the same time as importers would normally deposit estimated duties on this merchandise, a cash deposit equal to the estimated weighted-average antidumping duty margins as listed below. The “PRC-wide” rate applies to all exporters of subject merchandise not specifically listed. The weighted-average dumping margins are as follows:

Sodium Hexametaphosphate From the PRC
Manufacturer/Exporter | Weighted-Average Margin (Percent)
Jiangyin Chengxing International Trading Co., Ltd. | 92.02
Sichuan Mianzhu Norwest Phosphate Chemical Company Limited | 92.02
PRC-Wide Rate (including Yibin Tianyuan Group Co., Ltd., Mianyang Aostar Phosphorous Chemical Industry Co., Ltd., and Hubei Xingfa Chemicals Group Co., Ltd. ) | 188.05

This notice constitutes the antidumping duty order with respect to SHMP from the PRC pursuant to section 736(a) of the Act. Interested parties may contact the Department's Central Records Unit, Room 1117 of the main Commerce building, for copies of an updated list of antidumping duty orders currently in effect.

This order is published in accordance with section 736(a) of the Act and 19 CFR 351.211.

Dated: March 14, 2008.
David M. Spooner,
Assistant Secretary for Import Administration.

[FR Doc. E8-5657 Filed 3-18-08; 8:45 am]

BILLING CODE 3510-DS-S